DEPARTMENT OF HEALTH AND HUMAN SERVICES

National Institutes of Health

Center for Scientific Review; Amended Notice of Meeting

Notice is hereby given of a change in the meeting of the Center for Scientific Review Special Emphasis Panel, July 16, 2009, 9 a.m. to July 17, 2009, 6 p.m., National Institutes of Health, 6701 Rockledge Drive, Bethesda, MD 20892 which was published in the Federal Register on June 15, 2009, 74 FR 28260-28262.

The meeting times have been changed to 8 a.m. on July 16, 2009, to 4 p.m. on July 17, 2009. The meeting dates and location remain the same. The meeting is closed to the public.

Dated: June 18, 2009.
Jennifer Spaeth,
Director, Office of Federal Advisory Committee Policy.

[FR Doc. E9-15589 Filed 6-30-09; 8:45 am]

BILLING CODE 4140-01-P